DEPARTMENT OF AGRICULTURE

Submission for OMB Review; Comment Request

January 5, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 9, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: WIC Infant and Toddler Feeding Practices Study-2 (WIC ITFPS-2): Year 9 Extension.

OMB Control Number: 0584-0580.

Summary of Collection: The Healthy, Hunger-Free Kids Act of 2010 (Pub. L. 111-296, Sec. 305) mandates programs under its authorization, including WIC, to cooperate with USDA program research and evaluation activities. The USDA Food and Nutrition Service's (FNS) WIC ITFPS-2 provides information on the feeding practices of children who received WIC benefits, from birth up to 6 years of age. The proposed data collection will extend the longitudinal data collection of the current cohort of study participants for one more interview at nine years of age, four years after the end of their eligibility for WIC services. This proposed extension is needed to understand the nutrition, health outcomes, and family feeding practices of school-aged children in the period after WIC program eligibility ends.

Need and use of the Information: The results will assist in the development of appropriate and effective prevention strategies to improve the health of young children. With nearly 45 percent of U.S. infants participating in WIC, it is hoped that prevention strategies implemented in WIC will have a substantial impact on the growth and health of U.S. infants and children.

The data will be used to estimate the type and prevalence of various feeding practices among children who received WIC program benefits, after their program eligibility ends.

This study will also examine the circumstances and influences that shape caregivers' feeding decisions for their children, and will describe the impact of childhood WIC participation on subsequent dietary and health outcomes. In addition, the study will examine if those who left the longitudinal study are fundamentally different from those who remain in the study.

Description of Respondents: Individuals/Households, State, Local, or Tribal government, and Profit/Non-profit Business.

Number of Respondents: 3,555.

Frequency of Responses: Reporting: Once, On occasion.

Total Burden Hours: 5,627.

Ruth Brown,
Departmental Information Collection Clearance Officer.

[FR Doc. 2022-00175 Filed 1-7-22; 8:45 am]

BILLING CODE 3410-30-P